FEDERAL COMMUNICATIONS COMMISSION

47 CFR Part 64

[CG Docket No. 10-51; FCC 11-54]

Structure and Practices of the Video Relay Service Program

AGENCY: Federal Communications Commission.

ACTION: Correcting amendments.

SUMMARY: This document contains a correction to the final regulations of the Commission's rules, which were published in the Federal Register on Monday, May 2, 2011, 76 FR 24393. The final regulations address fraud, waste, and abuse in the Video Relay Service (VRS) industry.

DATES: Effective October 4, 2012.

FOR FURTHER INFORMATION CONTACT: Gregory Hlibok, Consumer and Governmental Affairs Bureau at (202) 559-5158 (voice/videophone), or email Gregory.Hlibok@fcc.gov.

SUPPLEMENTARY INFORMATION: The Federal Communications Commission published a document amending 47 CFR 64.604 in the Federal Register of May 2, 2011, (76 FR 24393). The amended rules are necessary to properly detect anomalies in submitted minutes, which can alert the Interstate Telecommunications Relay Service (TRS) Fund administrator and the Commission on the need to inquire further about, and if necessary, conduct an investigation into the legitimacy of such minutes.

Need for Correction

As published, the final regulations inadvertently referenced inaccurate regulatory text which may prove to be confusing and needs to be corrected accordingly.

List of Subjects in 47 CFR Part 64

Individuals with disabilities, Reporting and recordkeeping requirements, Telecommunications.

Federal Communications Commission.
Marlene H. Dortch,
Secretary.

Accordingly, 47 CFR part 64 is corrected by making the following correcting amendments:

PART 64—MISCELLANEOUS RULES RELATING TO COMMON CARRIERS

1. The authority citation for part 64 continues to read as follows:

Authority: 47 U.S.C. 154, 254(k); 403(b)(2)(B), (c), Pub. L. 104-104, 110 Stat. 56. Interpret or apply 47 U.S.C. 201, 218, 222, 225, 226, 227, 228, 254(k), 616, and 620 unless otherwise noted.

2. Amend § 64.604 by revising paragraph (c)(5)(iii)(D)(2) to read as follows:

§ 64.604 Mandatory minimum standards.

(c) * * *

(5) * * *

(iii) * * *

(D) * * *

(2) Call data required from all TRS providers. In addition to the data requested by paragraph (c)(5)(iii)(C)(1) of this section, TRS providers seeking compensation from the TRS Fund shall submit the following specific data associated with each TRS call for which compensation is sought:

(i) The call record ID sequence;

(ii) CA ID number;

(iii) Session start and end times noted at a minimum to the nearest second;

(iv) Conversation start and end times noted at a minimum to the nearest second;

(v) Incoming telephone number and IP address (if call originates with an IP-based device) at the time of the call;

(vi) Outbound telephone number (if call terminates to a telephone) and IP address (if call terminates to an IP-based device) at the time of call;

(vii) Total conversation minutes;

(viii) Total session minutes;

(ix) The call center (by assigned center ID number) that handled the call; and

(x) The URL address through which the call is initiated.

* * * * *

[FR Doc. 2012-24546 Filed 10-3-12; 8:45 am]

BILLING CODE 6712-01-P